NATIONAL SCIENCE FOUNDATION

Emergency Request for Approval of an Information Collection for Office of Polar Programs (OPP) United States Antarctic Program (USAP) Sexual Assault and Harassment Prevention and Response (SAHPR) Data Collection Plan

AGENCY: National Science Foundation.

ACTION: Notice and request for comments.

SUMMARY: In compliance with the Paperwork Reduction Act of 1995, the National Science Foundation (NSF) is providing notice that it will submit an information collection request (ICR) to the Office of Management and Budget (OMB) for emergency approval of a proposed information collection. NSF requests that OMB authorize the collection of information on or before 09 July 2021, for 180 days after the date of approval by OMB. Upon receiving the requested six-month emergency approval by OMB, NSF will follow the normal PRA procedures to obtain extended approval for this proposed information collection. The purpose of this collection is to gather data to support the SAHPR Needs Assessment, Implementation Plan and Training Material for the USAP. NSF is requesting emergency approval for this collection to maintain the SAHPR Program Implementation timeline, begin to implement recommendations before the 2021/2022 austral summer, and honor our commitment to the research and support community to provide a safe and equitable workplace.

DATES: Comments should be submitted as soon as possible upon publication of this notice in the Federal Register.

FOR FURTHER INFORMATION CONTACT: Suzanne H. Plimpton, Reports Clearance Officer, National Science Foundation, 2415 Eisenhower Avenue, Room W 18000, Alexandria, Virginia 22314; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: The Paperwork Reduction Act of 1995 (44 U.S.C. chapter 35; as amended) and 5 CFR part 1320 require each Federal agency to obtain OMB approval to initiate an information collection activity. NSF is seeking OMB approval for the following information collection:

OMB Control Number: 3145-NEW.

Title: Office of Polar Programs (OPP) United States Antarctic Program (USAP) Sexual Assault and Harassment Prevention and Response (SAHPR) Data Collection Plan.

Type of Review: Emergency approval of information collection.

Expected Number of Respondents: 1,000 Survey Respondents; 150 Focus Group Participants; 30 Stakeholder Interviewees.

Frequency: Annual survey. Initial interview and focus groups, with follow on scheduled as needed.

Estimated Average Burden per Response: 10-15 minutes/survey; 120 minutes/focus group; 60 minutes/interview.

Survey. The survey will collect information about organizational and community culture on the ice, perceptions of the issues of sexual assault and harassment, perceptions of leadership support, and the formal and informal interactions between USAP participants on the ice. The surveys will enable the data analysis effort to explore the differences in experience and perceptions based on demographic analysis. The survey will be conducted via an online portal and will not collect any personally identifiable information. The questions will be developed by professionals and will be representative best practices for similar efforts. The target audience will be USAP participants who have deployed to Antarctica within the previous three years.

Focus Groups. The purpose of conducting focus groups is to ascertain an understanding of organizational and community culture on the ice, perceptions of the issues of sexual assault and harassment, perceptions of leadership support, unique needs, and the formal and informal interactions between USAP participants on the ice. The focus groups will be facilitated by our SAHPR contractor and will follow a prescribed script. The groups will be comprised of USAP participants selected for specific groups based on organization, deployment type, work schedule, et cetera.

Stakeholder Interviews. The purpose of the stakeholder interviews is to gain a deeper understanding of current conditions, organizational capacity, and organizational needs that will inform and impact the creation of a realistic and effective USAP SAHPR implementation plan. Interviews will be conducted by our SAHPR contractor with vetted personnel representing various organizations comprising the USAP and will follow scripted questions.

Dated: June 21, 2021.
Suzanne H. Plimpton,
Reports Clearance Officer, National Science Foundation.

[FR Doc. 2021-13799 Filed 6-28-21; 8:45 am]

BILLING CODE 7555-01-P